GENERAL SERVICES ADMINISTRATION

[PBS-N01]

Notice of Intent to Prepare an Environmental Impact Statement and Hold a Public Scoping Meeting for the Construction of a New Border Station Facility in Madawaska, Maine

AGENCY: Public Buildings Service, GSA.

ACTION: Notice of Intent.

SUMMARY: The General Services Administration (GSA) announces its intent to prepare an Environmental Impact Statement (EIS) under the National Environmental Policy Act (NEPA) of 1969 to assess the potential impacts of the construction of a New Border Station Facility in Madawaska, Maine (the “Proposed Action”). At the request of Customs and Border Protection (CBP), the GSA is proposing to construct a new border station facility which meets their needs, and the design requirements of the GSA.

The existing facilities are undersized and obsolete, and consequently incapable of providing the level of security now required. The Proposed Action has been defined and will likely include: (a) identification of land requirements, including acquisition of adjoining land; (b) demolition of existing government structures at the border station; (c) construction of a main administration building and ancillary support buildings; and (d) consequent potential alterations to secondary roads.

Alternatives to be studied will identify alternative locations for the components of the border station including the main administration and ancillary support buildings, the associated roadway network and parking. A No Action alternative will also be studied that will evaluate the consequences of not constructing the new border station facility. This alternative is included to provide a basis for comparison to the action alternatives described above as required by NEPA regulations (40 CFR 1002.14(d)).

GSA invites individuals, organizations and agencies to submit comments concerning the scope of the EIS. The public scoping period starts with the publication of this notice in the Federal Register and will continue for forty five (45) days from the date of this notice. GSA will consider all comments received or postmarked by that date in defining the scope of the EIS. GSA expects to issue a Draft EIS by June 2006 at which time its availability will be announced in the Federal Register and local media. A public comment period will commence upon publication of the Notice of Availability. The GSA will consider and respond to comments received on the Draft EIS in preparing the Final EIS.

ADDRESSES: Written comments or suggestions concerning the scope of the EIS should be sent to David M. Drevinsky P.E., PMP, Regional Environmental Quality Advocate (REQA), U.S. General Services Administration, 10 Causeway Street, Room 975, Boston, MA 02222; Fax (617) 565-5967.

FOR FURTHER INFORMATION CONTACT: David M. Drevinsky by phone at (617) 565-6596 or by email at david.drevinsky@gsa.gov.

SUPPLEMENTARY INFORMATION: Public Scoping Meeting:

A public scoping meeting will provide the public with an opportunity to present comments, ask questions, and discuss concerns regarding the scope of the EIS for the Proposed Action with GSA representatives. GSA will hold a public scoping meeting at the Middle / High School Library located on 135 Seventh Avenue in Madawaska on January 10, 2006 from 6 p.m. to 8 p.m. In case of inclement weather, this public scoping meeting will be held on January 11, 2006 at the same location and with the same time.

Dated: December 29, 2005
Dennis R. Smith
Regional Administrator, New England Region

[FR Doc. E5-8328 Filed 1-5-06; 8:45 am]

BILLING CODE 6820-A8-S